DEPARTMENT OF LABOR

Employment and Training Administration

[TA-W-55,090]

Vishay Dale Electronics, Thick Film Division, Norfolk, NE; Notice of Termination of Investigation

Pursuant to section 221 of the Trade Act of 1974, as amended, an investigation was initiated on June 16, 2004, in response to a petition filed by a state representative on behalf of workers at Vishay Dale Electronics, Thick Film Division, Norfolk, Nebraska.

The petitioner has requested that the petition be withdrawn. Consequently, further investigation in this case would serve no purpose, and the investigation has been terminated.

Signed at Washington, DC this 28th day of June, 2004.
Elliott S. Kushner,
Certifying Officer, Division of Trade Adjustment Assistance.

[FR Doc. 04-16293 Filed 7-16-04; 8:45 am]

BILLING CODE 4510-30-P